DEPARTMENT OF LABOR

Mine Safety and Health Administration

30 CFR Parts 70, 71, 72, 75, and 90

RIN 1219-AB64

Lowering Miners' Exposure to Coal Mine Dust Including Continuous Personal Dust Monitors

AGENCY: Mine Safety and Health Administration, Labor.

ACTION: Final rule.

SUMMARY: The Mine Safety and Health Administration (MSHA) is announcing that the Office of Management and Budget (OMB) approved the information requirements contained in the final rule on Lowering Miners' Exposure to Coal Mine Dust, Including Continuous Personal Dust Monitors published in the Federal Register May 1, 2014, under the Paperwork Reduction Act of 1995 (PRA) (44 U.S.C. 3501-3520). The OMB Control Number is 1219-0152.

DATES: The effective date of the final rule and the related information collections is August 1, 2014.

FOR FURTHER INFORMATION CONTACT: Sheila McConnell, Acting Director, Office of Standards, Regulations, and Variances, MSHA, 1100 Wilson Boulevard, Room 2350, Arlington, Virginia 22209-3939, mcconnell.sheila.a@dol.gov (email), 202-693-9463 (voice), or 202-693-9441 (facsimile).

SUPPLEMENTARY INFORMATION: On May 1, 2014, MSHA published a final rule that revised the Agency's existing regulation for Lowering Miners' Exposure to Coal Mine Dust Including Continuous Personal Dust Monitors in the Federal Register (79 FR 24814). A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB control number. See 5 CFR 1320.5(a) and 1320.6. Under the PRA, an agency may not conduct an information collection unless it has a currently valid OMB approval. As required by the PRA, the Federal Register notice for the final rule stated that the Department of Labor would publish a notice in the Federal Register announcing the result of OMB's review. On February 19, 2014, MSHA submitted an information collection request for the final rule to OMB for approval in accordance with the PRA. In accordance with the PRA, the effective date of the information collection requirements contained in 30 CFR part 70, 30 CFR 71, 30 CFR part 72, 30 CFR part 75, and 30 CFR part 90 were approved under 44 U.S.C. 3506(c) on May 14, 2014. The effective date of the information collections is August 1, 2014 and it expires on May 31, 2017.

Agency: Mine Safety and Health Administration.

Title of Collection: Lowering Miners' Exposure to Coal Mine Dust Including Continuous Personal Dust Monitors.

OMB Control Number: 1210-0152.

Affected Public: Private Sector—Businesses or other for-profits.

Total Estimated Number of Respondents: 1,547.

Total Estimated Number of Responses: 3,929,928.

Total Estimated Annual Burden Hours: 176,321.

Total Estimated Annual Costs Burden: $53,959.

Dated: June 27, 2014.
Sheila McConnell,
Certifying Officer.

[FR Doc. 2014-15569 Filed 7-3-14; 8:45 am]

BILLING CODE 4510-43-P